DEPARTMENT OF DEFENSE

GENERAL SERVICES ADMINISTRATION

NATIONAL AERONAUTICS AND SPACE ADMINISTRATION

[OMB Control No. 9000-0161; Docket 2013-0077; Sequence 12]

Federal Acquisition Regulation; Information Collection; Reporting Purchases From Sources Outside the United States

AGENCY: Department of Defense (DOD), General Services Administration (GSA), and National Aeronautics and Space Administration (NASA).

ACTION: Notice of request for public comments regarding an extension, with changes, to an existing OMB clearance.

SUMMARY: Under the provisions of the Paperwork Reduction Act of 1995 (44 U.S.C. Chapter 35), the Regulatory Secretariat will be submitting to the Office of Management and Budget (OMB) a request to review and approve an extension of a currently approved information collection requirement concerning reporting purchases from sources outside the United States.

DATES: Submit comments on or before November 12, 2013.

ADDRESSES: Submit comments identified by IC 9000-0161 by any of the following methods:

• Regulations.gov: http://www.regulations.gov. Submit comments via the Federal eRulemaking portal by searching for “9000-0161; Reporting of Purchases from Outside the United States”. Select the link “Submit a Comment” that corresponds with “9000-0161; Reporting of Purchases from Outside the United States”. Follow the instructions provided at the “Submit a Comment” screen. Please include your name, company name (if any), and 9000-0161; Reporting of Purchases from Outside the United States” on your attached document.

• Fax: 202-501-4067.

• Mail: General Services Administration, Regulatory Secretariat (MVCB), 1800 F Street, NW., 2nd floor, Washington, DC 20405-0001. ATTN: Hada Flowers/IC 9000-0161.

Instructions: Please submit comments only and cite IC 9000-0161, in all correspondence related to this case. All comments received will be posted without change to http://www.regulations.gov, including any personal and/or business confidential information provided.

FOR FURTHER INFORMATION CONTACT: Ms. Cecelia L. Davis, Program Analyst, at 202-219-0202. For information pertaining to status or publication schedules, contact the Regulatory Secretariat at 202-501-4755.

SUPPLEMENTARY INFORMATION:

A. Purpose

The information on place of manufacture was formerly used by each Federal agency to prepare a report to Congress required by 41 U.S.C. 8302(b)(1) for FY 2009 through 2011 on acquisitions of articles, materials, or supplies that are manufactured outside the United States. However, the data is still necessary for analysis of the application of the Buy American statue and the trade agreements and for other reports to Congress. Additionally, contracting officers require this data as the basis for entry into the Federal Procurement Data System for further data on the rationale for purchasing foreign manufactured items.

B. Annual Reporting Burden

Based on a Federal Procurement Data System (FPDS) report of Government-wide acquisition of manufactured end products in FY 2012, a total of 427,055 contracts were awarded. Since this is a solicitation provision, we estimate an average of 4 responses per solicitation resulting in approximately 1,708,220 offers (427,055 x 4 (rounded)). Of the approximately 1,708,220 offers, the Government estimates that an average of 10 responses annually will be received from 170,822 unique vendors (1,708,220/10). Consequently, it was determined that the FY 2012 FPDS data identifying 170,822 unique vendors was a sufficient baseline for estimating the number of respondents. It is therefore estimated that approximately 170,822 respondents would need to comply with this information collection. The time required to read and prepare information is estimated at .01 hour (less than one minute) per completion. Recordkeeping will be integrated into systems already established by offerors.

Estimated number of respondents: 170,822.

Est. number of responses per respondent per year: x 10.

Total annual responses (rounded): 1,708,220.

Estimated hours per response: 0.1.

Total response burden hours: 17,082.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat (MVCB), 1800 F Street NW., 2nd floor, Washington, DC 20405-0001, telephone 202-501-4755. Please cite OMB Control Number 9000-0161, Reporting Purchases from Sources Outside the United States, in all correspondence.

Dated: September 6, 2013.
Karlos Morgan, Sr.,
Acting Director, Federal Acquisition Policy Division, Office of Government-wide Acquisition Policy, Office of Acquisition Policy, Office of Government-wide Policy.

[FR Doc. 2013-22193 Filed 9-11-13; 8:45 am]

BILLING CODE 6820-EP-P